DEPARTMENT OF ENERGY

Federal Energy Regulatory Commission

Notice of Intent To File an Application for a New License

November 17, 2000.

a. Type of filing: Notice of Intent To File an Application for a New License.

b. Project No.: 7387.

c. Date filed: October 23, 2000.

d. Submitted by: Erie Boulevard Hydro, LP—current licensee.

e. Name of project: Piercefield Hydroelectric Project.

f. Location: On the Raquette River near the towns of Piercefield and Altamount, in St. Lawrence and Franklin Counties, New York. The project does not occupy federal lands.

g. Filed pursuant to: Section 15 of the Federal Power Act.

h. Licensee contact: Jerry L. Sabattis, Erie Boulevard Hydropower, LP, 225 Greenfield Parkway, Suite 201, Liverpool, NY 13088 (315) 413-2787.

i. FERC contact: Charles T. Raabe, charles.raabe@ferc.fed.us, (202) 219-2811.

j. Effective date of current license: November 1, 1955.

k. Expiration date of current license: October 31, 2005.

l. Description of the project: The project consists of the following existing facilities: (a) A dam in five sections comprising: (1) A 360-foot-long, 10-foot-high earthen dike along the right bank (north bank); (2) a 62.5-foot-long concrete sluice structure; (3) a 70-foot-long, 20-foot-high earthen dike having a concrete core wall; (4) a 118-foot-long stanchion type stop log spillway; and (5) a 294-foot-long, 22-foot-high concrete spillway with a crest elevation of 1,540.0 feet USGS surmounted by 2-foot-high flashboards; (b) a 140-foot-long, 45-foot-wide, 17-foot-deep concrete masonry forebay structure; (c) a reservoir having a surface area of 370 acres at a normal pool elevation of 1,542.0 feet USGS; (d) a powerhouse containing 3 generating units having a total installed capacity of 2,700 kW; (e) a 3.84-mile-long, 46-kV transmission line; and (f) other appurtenances.

m. Each application for a new license and any competing license applications must be filed with the Commission at least 24 months prior to the expiration of the existing license. All applications for license for this project must be filed by October 31, 2003.

Linwood A. Watson, Jr.,
Acting Secretary.

[FR Doc. 00-29951 Filed 11-22-00; 8:45 am]

BILLING CODE 6717-01-M